DEPARTMENT OF ENERGY

Federal Energy Regulatory Commission

[Docket No. RP01-190-000]

Kern River Gas Transmission Company; Notice of Filing of Pro Forma Tariff Sheets

December 21, 2000.

Take notice that on December 15, 2000, Kern River Gas Transmission Company (Kern River) tendered for filing as part of its FERC Gas Tariff, Second Revised Volume No. 1, the pro forma tariff sheets listed in Appendix A to the filing.

Kern River states that the purpose of the filing is to establish in Kern River's tariff a mechanism for converting the maximum daily quantities (MDQs) stated in transportation service agreements that were executed on a volumetric (i.e., Mcf) basis to demand maximum daily quantities (DMDQs), transportation maximum daily quantities (TMDQs), and receipt and delivery point entitlements, all on a thermal (i.e., Dth) basis, and all as more fully described in the filing.

Kern River states that it has served a copy of this filing upon its customers and interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed on or before December 27, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-33099 Filed 12-27-00; 8:45 am]

BILLING CODE 6717-01-M